ENVIRONMENTAL PROTECTION AGENCY

40 CFR Part 300

[EPA-R04-SFUND-2011-0749; FRL-9494-1]

National Oil and Hazardous Substances Pollution Contingency Plan National Priorities List: Deletion of the Martin-Marietta/Sodyeco Superfund Site

AGENCY: Environmental Protection Agency.

ACTION: Proposed rule, reopening of comment period.

SUMMARY: The Environmental Protection Agency (EPA) Region 4 issued a Notice of Intent to Delete the Martin-Marietta/Sodyeco Superfund Site from the National Priorities List (NPL) on September 30, 2011, (76 FR 60777). The NPL, promulgated pursuant to Section 105 of the Comprehensive Environmental Response, Compensation, and Liability Act (CERCLA or Superfund) of 1980, as amended, is an appendix of the National Oil and Hazardous Substances Pollution Contingency Plan (NCP). EPA, with the concurrence of the State of North Carolina, through the Department of Environment and Natural Resources (DENR), has determined that all appropriate response actions under CERCLA, other than operation, maintenance, and five-year reviews, have been completed.

The rationale for deleting the Martin-Marietta/Sodyeco Superfund Site has not changed. The Federal Register notice for the proposed deletion (76 FR 60777) discusses this rationale in detail.

DATES: Comments concerning the proposed deletion may be submitted to EPA on or before December 19, 2011.

ADDRESSES: Submit your comments, identified by Docket ID no. EPA-R04-SFUND-2011-0749, by one of the following methods:

• Online: http://www.regulations.gov. Follow instructions for submitting comments.

• Email: townsend.michael@epa.gov.

• Fax: (404) 562-8788 Attention: Michael Townsend.

• Mail: Michael Townsend, Remedial Project Manager, Superfund Remedial Section, Superfund Remedial Branch, Superfund Division, U.S. Environmental Protection Agency, Region 4, 61 Forsyth Street, SW., Atlanta, Georgia 30303-8960.

• Hand delivery: U.S. Environmental Protection Agency, Region 4, 61 Forsyth Street, SW., Atlanta, Georgia 30303-8960.

Such deliveries are only accepted during the public docket's normal hours of operation, and special arrangements should be made for deliveries of boxed information. The Regional EPA Office is open for business Monday through Friday, 8:30 a.m. to 4:30 p.m., excluding Federal holidays.

Instructions: Direct your comments to Docket ID no. EPA-R04-SFUND-2011-0749. EPA's policy is that all comments received will be included in the docket without change and may be made available online at http://www.regulations.gov, including any personal information provided, unless a comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any electronic files you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in hard copy. Publicly available docket materials are available either electronically at http://www.regulations.gov or in hard copy at:

Regional Site Information Repository: U.S. EPA Record Center, Attn: Ms. Debbie Jourdan, Atlanta Federal Center, 61 Forsyth Street SW., Atlanta, Georgia 30303-8960. Hours of Operation (by appointment only): 8 a.m. to 4 p.m., Monday through Friday.

Local Site Information Repository: Mt. Holly Public Library, 235 West Catawba Avenue, Mt. Holley, North Carolina 28120-1603.

Hours of operation: 10 a.m.-6 p.m., Monday, Tuesday, Thursday and Friday. 10 a.m.-2 p.m., Wednesday and Saturday.

FOR FURTHER INFORMATION CONTACT: Michael Townsend, Remedial Project Manager, Superfund Remedial Section, Superfund Remedial Branch, Superfund Division, U.S. Environmental Protection Agency, Region 4, 61 Forsyth Street SW., Atlanta, Georgia 30303-8960. (404) 562-8813. Electronic mail at: townsend.michael@epa.gov.

SUPPLEMENTARY INFORMATION:

List of Subjects in 40 CFR Part 300

Environmental protection, Air pollution control, Chemicals, Hazardous Waste, Hazardous substances, Intergovernmental relations, Penalties, Reporting and recordkeeping requirements, Superfund, Water pollution control, Water Supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: November 7, 2011.
Gwendolyn Keyes Fleming,
Regional Administrator, Region 4.

[FR Doc. 2011-29907 Filed 11-17-11; 8:45 am]

BILLING CODE 6560-50-P